DEPARTMENT OF TRANSPORTATION

Surface Transportation Board

[Docket No. AB 1128X]

Energy Solutions, LLC, d.b.a. Heritage Railroad Corporation—Abandonment Exemption—in Anderson and Roane Counties, Tenn.

On April 3, 2015, as supplemented on June 26, 2015, Energy Solutions, LLC (ES), d.b.a. Heritage Railroad Corporation, filed with the Surface Transportation Board (Board) a petition under 49 U.S.C. 10502 for exemption from the provisions of 49 U.S.C. 10903 to abandon a line of railroad, known as the Blair-Oak Ridge Line, which extends between a point of connection to Norfolk Southern Railway Company at or near Blair, Tenn. (milepost 0.0) and the end of track at East Tennessee Technology Center at or near Oak Ridge, Tenn. (milepost 7.0), including approximately three miles of spur tracks in Anderson and Roane Counties, Tenn. (the Line). The Line includes the stations of Blair and Oak Ridge and traverses United States Postal Service Zip Codes 37830 and 37190.

According to ES, it owns the Line's track materials, and the United States Department of Energy (DOE) owns the real estate underlying the Line. ES states that it operates over the Line pursuant to an easement for right-of-way granted by DOE to Heritage Railroad Corporation, Inc. (HRC) in 2002, which was assigned by HRC to ES in 2009.¹ ES proposes to abandon the Line (thus ending its obligation to provide common carrier service to shippers on the Line upon reasonable request) but continue to provide contract carriage over it outside the Board's jurisdiction. ES asserts that all the shippers on the Line would continue to be served by ES pursuant to contract.

¹ See Heritage R.R.—Lease & Operation Exemption—Rail Line of U.S. Dep't of Energy, FD 34372 (STB served July 23, 2003); Energy Solutions—Acquis. & Operation Exemption—Heritage R.R., FD 35288 (STB served Sept. 3, 2009).

According to ES, the Line does not contain federally granted rights-of-way.² Any documentation in ES's possession will be made available promptly to those requesting it.

² ES's statement that the Line includes no federally granted rights-of-way may be inconsistent with its statement that it operates over the Line pursuant to an easement granted by DOE.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by October 14, 2015.

Any OFA under 49 CFR 1152.27(b)(2) will be due by October 23, 2015, or 10 days after service of a decision granting the petition for exemption, whichever occurs first. Each OFA must be accompanied by a $1,600 filing fee. See 49 CFR 1002.2(f)(25).

All interested persons should be aware that, following abandonment, the Line may be suitable for other public use, including interim trail use. Any request for a public use condition under 49 CFR 1152.28 or for trail use/rail banking under 49 CFR 1152.29 will be due no later than August 5, 2015. Each trail request must be accompanied by a $300 filing fee. See 49 CFR 1002.2(f)(27).

All filings in response to this notice must refer to Docket No. AB 1128X and must be sent to: (1) Surface Transportation Board, 395 E Street SW., Washington, DC 20423-0001; and (2) Thomas F. McFarland, Thomas F. McFarland, P.C., 208 South LaSalle Street, Suite 1890, Chicago, IL 60604-1112. Replies to the petition are due on or before August 5, 2015.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. Assistance for the hearing impaired is available through the Federal Information Relay Service at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our Web site at WWW.STB.DOT.GOV.

Decided: July 10, 2015.
By the Board, Rachel D. Campbell, Director, Office of Proceedings.
Jeffrey Herzig,
Clearance Clerk.

[FR Doc. 2015-17458 Filed 7-15-15; 8:45 am]

BILLING CODE 4915-01-P